DEPARTMENT OF THE INTERIOR

National Park Service

Availability of Plan of Operations and Supplement to Environmental Assessment for Well Plugging and Removal of Oil and Gas Production Equipment; Merit Energy Company, Big Thicket National Preserve, Hardin County, Texas

Notice is hereby given in accordance with section 9.52(b) of Title 36 of the code of Federal Regulations, Part 9, Subpart B, that the National Park Service has accepted a Plan of Operations from Merit Energy Company for Well Plugging and Removal of Oil and Gas Production Equipment in Big Thicket National Preserve, Hardin County, Texas.

The Plan of Operations and corresponding Supplement to the Environmental Assessment are available for public review and comment for a period of 30 days from the publication date of this notice. Both documents can be viewed during normal business hours at the Office of the Superintendent, Big Thicket National Preserve, 3785 Milam Street, Beaumont, Texas. Copies can be requested from the Superintendent, Big Thicket National Preserve, 3785 Milam Street, Beaumont, TX 77701.

Dated: January 12, 2001.
Lila L. Walker,
Superintendent, Acting, Big Thicket National Preserve.

[FR Doc. 01-2349 Filed 1-25-01; 8:45 am]

BILLING CODE 4310-70-M